DEPARTMENT OF COMMERCE

International Trade Administration

[A-580-876]

Welded Line Pipe From the Republic of Korea: Preliminary Results of Antidumping Duty Administrative Review; 2022-2023

AGENCY: Enforcement and Compliance, International Trade Administration, Department of Commerce.

SUMMARY: The U.S. Department of Commerce (Commerce) preliminarily determines that certain producers/exporters subject to this administrative review did not make sales of subject merchandise at less than normal value (NV). Interested parties are invited to comment on these preliminary results of review.

DATES: Applicable April 23, 2025.

FOR FURTHER INFORMATION CONTACT: Grant Fuller, AD/CVD Operations, Office IX, Enforcement and Compliance, International Trade Administration, U.S. Department of Commerce, 1401 Constitution Avenue NW, Washington, DC 20230; telephone: (202) 482-6228.

SUPPLEMENTARY INFORMATION:

Background

On February 8, 2024, based on timely requests for review, in accordance with 19 CFR 351.221(c)(1)(i), we initiated an administrative review of the antidumping duty order on welded line pipe from the Republic of Korea (Korea).¹ The period of review (POR) is December 1, 2022, through November 30, 2023. On July 22, 2024, Commerce tolled certain deadlines in this administrative proceeding by seven days.² On August 23, 2024, we extended the preliminary results of this review to December 24, 2024.³ Further, on December 9, 2024, we extended the preliminary results of this review to no later than January 6, 2025.⁴ Also on December 9, 2024, Commerce tolled the deadline to issue the preliminary results in this administrative review by 90 days.⁵ Accordingly, the deadline for these preliminary results is now April 7, 2025. For a complete description of the events that followed the initiation of this review, see the Preliminary Decision Memorandum.⁶

¹ See Initiation of Antidumping and Countervailing Duty Administrative Reviews, 89 FR 8641 (February 8, 2024); see also Welded Line Pipe from the Republic of Korea and the Republic of Turkey: Antidumping Duty Orders, 80 FR 75056, 75057 (December 1, 2015) (Order).

² See Memorandum, “Tolling of Deadlines for Antidumping and Countervailing Duty Proceedings,” dated July 22, 2024.

³ See Memorandum, “Extension of Deadline for Preliminary Results of 2022-2023 Antidumping Duty Administrative Review,” dated August 23, 2024.

⁴ See Memorandum, “Second Extension of Deadline for Preliminary Results of 2022-2023 Antidumping Duty Administrative Review,” dated December 9, 2024.

⁵ See Memorandum, “Tolling of Deadlines for Antidumping and Countervailing Duty Proceedings,” dated December 9, 2024.

⁶ See Memorandum, “Decision Memorandum for the Preliminary Results of the 2022-2023 Administrative Review of the Antidumping Duty Order on Welded Line Pipe from Korea,” dated concurrently with, and hereby adopted by, this notice (Preliminary Decision Memorandum).

Scope of the Order

The merchandise subject to the Order is welded line pipe. For a complete description of the scope of the Order, see the Preliminary Decision Memorandum.

Methodology

Commerce is conducting this review in accordance with section 751(a) of the Tariff Act of 1930, as amended (the Act). Export price and constructed export price are calculated in accordance with section 772 of the Act. NV is calculated in accordance with section 773 of the Act. For a full description of the methodology underlying our conclusions, see the Preliminary Decision Memorandum. A list of the topics discussed in the Preliminary Decision Memorandum is attached as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Review-Specific Rate for Non-Examined Companies

The Act and Commerce's regulations do not address the establishment of a weighted-average dumping margin to be applied to companies not selected for individual examination when Commerce limits its examination in an administrative review pursuant to section 777A(c)(2) of the Act. Generally, Commerce looks to section 735(c)(5) of the Act, which provides instructions for calculating the all-others rate in a less-than-fair-value (LTFV) investigation, for guidance when calculating the weighted-average dumping margin for companies which were not selected for individual examination in an administrative review. Under section 735(c)(5)(A) of the Act, the all-others rate is normally “an amount equal to the weighted average of the estimated weighted-average dumping margins established for exporters and producers individually investigated, excluding any zero or de minimis margins, and any margins determined entirely {on the basis of facts available}.”

Where the dumping margin for individually examined respondents are all zero, de minimis, or based entirely on facts available, section 735(c)(5)(B) of the Act provides that Commerce may use “any reasonable method to establish the estimated all-others rate for exporters and producers not individually investigated, including averaging the estimated weighted average dumping margins determined for the exporters and producers individually investigated.”

In this review, we preliminarily calculated weighted-average dumping margins of zero percent for the mandatory respondents Hyundai Pipe and SeAH Steel Corporation (SeAH). Consistent with the U.S. Court of Appeals for the Federal Circuit's decision in Albemarle,⁷ and Commerce's practice,⁸ we assigned the companies not selected for individual examination in this review, Husteel Co., Ltd. and NEXTEEL Co., Ltd., a weighted-average dumping margin of zero percent based on the rates calculated for Hyundai Pipe and SeAH, in accordance with section 735(c)(5)(B) of the Act.

⁷ See Albemarle Corp. v. United States, 821 F.3d 1345 (Fed. Cir. 2016) (Albemarle).

⁸ See, e.g., Certain Cold-Rolled Steel Flat Products from the Republic of Korea: Preliminary Results of Antidumping Duty Administrative Review; 2020-2021, 87 FR 60989 (October 7, 2022), unchanged in Certain Cold-Rolled Steel Flat Products from the Republic of Korea: Final Results of Antidumping Duty Administrative Review; 2020-2021, 88 FR 20218 (April 5, 2023).

Preliminary Results of Review

As a result of this review, we preliminarily determine the following estimated weighted-average dumping margins for the period December 1, 2022, through November 30, 2023:

Producer or exporter | Weighted- average dumping margin (percent)
Husteel Co., Ltd | 0.00
Hyundai Steel Pipe Co., Ltd ⁹ | 0.00
NEXTEEL Co., Ltd | 0.00
SeAH Steel Corporation | 0.00

Disclosure and Public Comment

We intend to disclose the calculations and analysis performed to interested parties for these preliminary results within five days of any public announcement or, if there is no public announcement, within five days of the date of publication of this notice in the Federal Register in accordance with 19 CFR 351.224(b).

⁹ On November 14, 2024, Commerce found via a changed circumstances review that Hyundai Steel Pipe Co., Ltd. is the successor-in-interest to Hyundai Steel Company. See Circular Welded Non-Alloy Steel Pipe from the Republic of Korea; Certain Oil Country Tubular Goods from the Republic of Korea; Welded Line Pipe from the Republic of Korea; and Large Diameter Welded Pipe from the Republic of Korea: Notice of Final Results of Antidumping Duty Changed Circumstances Reviews, 89 FR 89962 (November 14, 2024), and accompanying Issues and Decision Memorandum.

Case briefs or other written comments may be submitted to the Assistant Secretary for Enforcement and Compliance. Pursuant to 19 CFR 351.309(c)(1)(ii), we have modified the deadline for interested parties to submit case briefs to Commerce to no later than 21 days after the date of the publication of this notice.¹⁰ Rebuttal briefs, limited to issues raised in the case briefs, may be filed not later than five days after the date for filing case briefs.¹¹ Interested parties who submit case briefs or rebuttal briefs in this proceeding must submit: (1) a table of contents listing each issue; and (2) a table of authorities.¹² All briefs must be filed electronically using ACCESS. An electronically filed document must be received successfully in its entirety in ACCESS by 5 p.m. Eastern Time on the established deadline.

¹⁰ See 19 CFR 351.309.

¹¹ See 19 CFR 351.309(d); see also Administrative Protective Order, Service, and Other Procedures in Antidumping and Countervailing Duty Proceedings, 88 FR 67069, 67077 (September 29, 2023) (APO and Service Final Rule).

¹² See 19 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.¹³ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁴

¹³ We use the term “issue” here to describe an argument that Commerce would normally address in a comment of the Issues and Decision Memorandum.

¹⁴ See APO and Service Final Rule.

Pursuant to 19 CFR 351.310(c), interested parties who wish to request a hearing must submit a written request to the Assistant Secretary for Enforcement and Compliance, filed electronically via ACCESS. Requests should contain: (1) the requesting party's name, address, and telephone number; (2) the number of individuals from the requesting party that will attend the hearing and whether any of those individuals is a foreign national; and (3) a list of the issues the party intends to discuss at the hearing. Issues raised in the hearing by a party will be limited to those raised in the party's case and rebuttal briefs. An electronically filed hearing request must be received successfully in its entirety by Commerce's electronic records system, ACCESS, by 5 p.m. Eastern Time within 30 days after the date of publication of this notice in the Federal Register. If a request for a hearing is made, Commerce will inform parties of the scheduled date for the hearing.¹⁵

¹⁵ See 19 CFR 351.310(d).

Assessment Rates

Upon issuing the final results, Commerce shall determine, and CBP shall assess, antidumping duties on all appropriate entries. If either Hyundai Pipe's or SeAH's weighted-average dumping margin is not zero or de minimis (i.e., less than 0.50 percent) in the final results of this review: (1) for Hyundai Pipe, we will calculate importer-specific ad valorem duty assessment rates based on the ratio of the total amount of dumping calculated for each importer's examined sales to the total entered value of these sales, in accordance with 19 CFR 351.212(b)(1); and (2) for SeAH, because it did not report actual entered value for all of its U.S. sales, we will calculate importer-specific per-unit duty assessment rates by aggregating the total amount of antidumping duties calculated for the examined sales and dividing this amount by the total quantity of those sales. Where either the respondent's weighted-average dumping margin is zero or de minimis within the meaning of 19 CFR 351.106(c)(1), or an importer-specific rate is zero or de minimis, we will instruct CBP to liquidate the appropriate entries without regard to antidumping duties.

Commerce's “automatic assessment” practice will apply to entries of subject merchandise during the POR produced by Hyundai Pipe or SeAH for which the reviewed companies did not know that the merchandise they sold to the intermediary (e.g., a reseller, trading company, or exporter) was destined for the United States. In such instances, we will instruct CBP to liquidate unreviewed entries at the all-others rate if there is no rate for the intermediate company(ies) involved in the transaction.¹⁶

¹⁶ For a full discussion of this practice, see Antidumping and Countervailing Duty Proceedings: Assessment of Antidumping Duties, 68 FR 23954 (May 6, 2003).

For the companies which were not selected for individual review, we will instruct CBP to assess antidumping duties on all appropriate entries at a rate equal to the weighted-average of the dumping margins calculated for Hyundai Pipe and SeAH in the final results of this review, unless that rate is zero or de minimis, in which case we intend to instruct CBP to liquidate relevant entries without regarding to antidumping duties. The final results of this review shall be the basis for the assessment of antidumping duties on entries of merchandise covered by the final results of this review and for future deposits of estimated duties, where applicable.¹⁷

¹⁷ See section 751(a)(2)(C) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of the subject merchandise entered, or withdrawn from warehouse, for consumption on or after the publication date of the final results of this administrative review, as provided by section 751(a)(2)(C) of the Act: (1) the cash deposit rate for the companies listed above will be that established in the final results of this review, except if the rate is less than 0.50 percent and, therefore, de minimis within the meaning of 19 CFR 351.106(c)(1), in which case the cash deposit rate will be zero; (2) for previously investigated or reviewed companies not covered in this review, the cash deposit rate will continue to be the company-specific cash deposit rate published for the most recently completed segment of this proceeding in which the company participated; (3) if the exporter is not a firm covered in this review, or the LTFV investigation, but the manufacturer is, then the cash deposit rate will be the rate established for the most recent segment for the manufacturer of the merchandise; and (4) the cash deposit rate for all other manufacturers or exporters will continue to be 4.38 percent, the all-others rate established in the LTFV investigation.¹⁸ These deposit requirements, when imposed, shall remain in effect until further notice.

¹⁸ See Order.

Final Results of Review

Unless otherwise extended, Commerce intends to issue the final results of this administrative review, including the results of its analysis of the issues raised in any written briefs, no later than 120 days after the date of publication of this notice in the Federal Register, pursuant to section 751(a)(3)(A) of the Act and 19 CFR 351.213(h)(1), unless otherwise extended.

Notification to Importers

This notice serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i)(1) of the Act, and 19 CFR 351.213(h) and 351.221(b)(4).

Dated: April 7, 2025.
Christopher Abbott,
Deputy Assistant Secretary for Policy and Negotiations, performing the non-exclusive functions and duties of the Assistant Secretary for Enforcement and Compliance.

Appendix

List of Topics Discussed in the Preliminary Decision Memorandum

I. Summary

II. Background

III. Scope of the Order

IV. Discussion of the Methodology

V. Recommendation

[FR Doc. 2025-06900 Filed 4-22-25; 8:45 am]

BILLING CODE 3510-DS-P